DEPARTMENT OF THE INTERIOR

Fish and Wildlife Service

[FWS-R8-FHC-2012-N266; FXFR1334088TWG0W4-123-FF08EACT00]

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). The TMC interprets and recommends policy, coordinates and reviews management actions, and provides organizational budget oversight. This notice announces a TAMWG meeting, which is open to the public.

DATES: TAMWG will meet from 9 a.m. to 5 p.m. on Thursday, January 10, 2013, and from 8:30 a.m. to 12:30 p.m. on Friday, January 11, 2013.

ADDRESSES: The meeting will be held at the Shasta College Trinity Campus, 30 Arbuckle Court, Weaverville, CA 96093.

FOR FURTHER INFORMATION CONTACT: Meeting Information: Nancy J. Finley, U.S. Fish and Wildlife Service, 1655 Heindon Road, Arcata, CA 95521; telephone: (707) 822-7201. Trinity River Restoration Program (TRRP) Information: Robin Schrock, Executive Director, Trinity River Restoration Program, P.O. Box 1300, 1313 South Main Street, Weaverville, CA 96093; telephone: (530) 623-1800; email: rschrock@usbr.gov.

SUPPLEMENTARY INFORMATION: Under section 10(a)(2) of the Federal Advisory Committee Act (5 U.S.C. App.), this notice announces a meeting of the TAMWG. The meeting will include discussion of the following topics:

• Designated Federal Officer (DFO) updates,

• TMC Chair report,

• Executive Director's report,

• TMC Chair report,

• Budget update,

• Update from TRRP Workgroups,

• Phase 1 Review,

• 2013 Design update,

• Watershed update,

• 2012 Temperature Workgroup Products,

• Gravel presentation study and discussion on 2013 recommendation, and

• TAMWG's mission statement.

Completion of the agenda is dependent on the amount of time each item takes. The meeting could end early if the agenda has been completed.

Dated: December 6, 2012.
Nancy Finley,
Field Supervisor, Arcata Fish and Wildlife Office, Arcata, CA.

[FR Doc. 2012-30077 Filed 12-12-12; 8:45 am]

BILLING CODE 4310-55-P